DEPARTMENT OF ENERGY

Federal Energy Regulatory Commission

[Docket No. GT01-23-000]

Williston Basin Interstate Pipeline Company; Notice of Tariff Filing

May 22, 2001.

Take notice that on May 17, 2001, Williston Basin Interstate Pipeline Company (Williston Basin), tendered for filing as part of its FERC Gas Tariff, Second Revised Volume No. 1, the following revised tariff sheet to become effective May 17, 2001:

Fifth Revised Sheet No. 374

Williston Basin states that it has revised the above-referenced tariff sheet found in Section 48 of the General Terms and Conditions of its Tariff, to rename a receipt point associated with its Pooling Service. Point ID No. 03376 is being renamed from (WRG—Madden) to (TBI—Wind River). Such name change has no effect on Williston Basin's Pooling Service, but is being made simply to reflect a change in name to clearly identify the receipt point.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-13363 Filed 5-25-01; 8:45 am]

BILLING CODE 6717-01-M